DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the name of one person that has been placed on OFAC's Non-SDN Menu-Based Sanctions List (NS-MBS List) based on OFAC's determination that one or more applicable legal criteria were satisfied.

DATES: This action takes effect on the date listed in Supplementary Information.

FOR FURTHER INFORMATION CONTACT:

OFAC: Associate Director for Global Targeting, tel: 202-622-2420; Assistant Director for Licensing, tel.: 202-622-2480; Assistant Director for Regulatory Affairs, tel.: 202-622-4855; or Assistant Director for Compliance, tel.: 202-622-2490.

SUPPLEMENTARY INFORMATION:

Electronic Availability

The NS-MBS List and additional information concerning OFAC sanctions programs are available on OFAC's website (https://ofac.treasury.gov).

Notice of OFAC Actions

On August 20, 2024, OFAC determined that the individual identified below meets one or more of the criteria for the imposition of sanctions set forth in section 1(a)-(c) of Executive Order 14059 of December 15, 2021, “Imposing Sanctions on Foreign Persons Involved in the Global Illicit Drug Trade,” 86 FR 71549 (December 17, 2021) (E.O. 14059). Therefore, OFAC selected one or more of the sanctions set forth in section 2(a)(i)-(vi) of E.O. 14059 to impose on the individual identified below.

Individual

1. MARTELLY, Michel Joseph (a.k.a. MARTELLY, Michael; a.k.a. “Sweet Micky”), Miami, FL, United States; Petionville, Ouest, Haiti; Port-au-Prince, Ouest, Haiti; Dominican Republic; DOB 12 Feb 1961; POB Port-au-Prince, Haiti; nationality Haiti; Gender Male; Executive Order 14059 information: Prohibition on any transactions in foreign exchange that are subject to the jurisdiction of the United States and in which this target has any interest; alt. Executive Order 14059 information: Prohibition on any United States financial institution from making loans or providing credit to this target; alt. Executive Order 14059 information: Prohibition on any United States person from investing in or purchasing significant amounts of equity or debt instruments of this target; Driver's License No. M634550610520 (United States); National ID No. 0032768386 (Haiti) (individual) [ILLICIT-DRUGS-EO14059].

Determined to meet the criteria for imposition of sanctions pursuant to section 1(a)(i) of E.O. 14059 for having engaged in, or attempted to engage in, activities or transactions that have materially contributed to, or pose a significant risk of materially contributing to, the international proliferation of illicit drugs or their means of production.

The following sanctions were imposed pursuant to section 2(a)(i)-(vi) of E.O. 14059: (iii) prohibition on any United States financial institution from making loans or providing credit to the sanctioned person; (iv) prohibition on any transactions in foreign exchange that are subject to the jurisdiction of the United States and in which the sanctioned person has any interest; and (v) prohibition on any United States person from investing in or purchasing significant amounts of equity or debt instruments of the sanctioned person.

Dated: August 20, 2024.
Lisa M. Palluconi,
Acting Director, Office of Foreign Assets Control, U.S. Department of the Treasury.

[FR Doc. 2024-19065 Filed 8-23-24; 8:45 am]

BILLING CODE P